DEPARTMENT OF VETERANS AFFAIRS

Notice of Intent To Grant an Exclusive License

AGENCY: Office of Research and Development, Department of Veterans Affairs.

ACTION: Notice of Intent.

SUMMARY: Notice is hereby given that the Department of Veterans Affairs, Office of Research and Development, intends to grant to Rubicon Biotechnology, LLC, 26212 Dimension Dr. Suite 260, Lake Forest, CA 92630, USA, an exclusive license to practice the following: U.S. Patent Application Serial No. 13/815,829 (“ANTIBODY-MEDIATED TRANSDUCTION OF HEAT SHOCK PROTEINS INTO LIVING CELLS”), filed March 15, 2013, which claimed the priority of U.S. Serial No. 61/618,594, filed March 30, 2012. Copies of the published patent applications may be obtained from the U.S. Patent and Trademark Office at www.uspto.gov.

DATES: Comments must be received 15 days from the date of this published Notice.

ADDRESSES: Written comments may be submitted through www.regulations.gov; by mail or hand-delivery to the Director, Regulations Management (02REG), Department of Veterans Affairs, 810 Vermont Avenue NW., Room 1068, Washington, DC, 20420; or by fax to (202) 273-9026. Copies of comments received will be available for public inspection in the Office of Regulation Policy and Management, Room 1063B, between the hours of 8:00 a.m. and 4:30 p.m., Monday through Friday (except holidays). Call (202) 461-4902 for an appointment (this is not a toll-free number). In addition, during the comment period, comments may be viewed online through the Federal Docket Management System at http://www.regulations.gov.

FOR FURTHER INFORMATION CONTACT: Dr. Lee A. Sylvers, Technology Transfer Specialist, Office of Research and Development (10P9TT), Department of Veterans Affairs, 810 Vermont Avenue NW., Washington, DC, 20420, (202) 443-5646 (this is not a toll-free number).

SUPPLEMENTARY INFORMATION: It is in the public interest to so license these inventions, as Rubicon Biotechnology, LLC submitted a complete and sufficient application for a license. The prospective exclusive license will be royalty-bearing and will comply with the terms and conditions of 35 U.S.C. 209 and 37 CFR 404.7.

Signing Authority

The Secretary of Veterans Affairs, or designee, approved this document and authorized the undersigned to sign and submit the document to the Office of the Federal Register for publication electronically as an official document of the Department of Veterans Affairs. Jose D. Riojas, Chief of Staff, approved this document on March 2, 2015 for publication.

Approved: March 3, 2015.
Michael Shores,
Regulation Policy and Management, Office of General Counsel.

[FR Doc. 2015-05209 Filed 3-5-15; 8:45 am]

BILLING CODE 8320-01-P